CONSUMER PRODUCT SAFETY COMMISSION

[Docket No. CPSC-2012-0038]

Submission for OMB Review; Comment Request: Requirements for Baby-Bouncers and Walker-Jumpers

AGENCY: Consumer Product Safety Commission.

ACTION: Notice.

SUMMARY: In the Federal Register of June 20, 2012 (77 FR 3700), the Consumer Product Safety Commission (CPSC or Commission) published a notice in accordance with provisions of the Paperwork Reduction Act of 1995 (44 U.S.C. Chapter 35) to announce the CPSC's intention to seek extension of approval of the collection of information in the requirements for baby-bouncers and walker-jumpers in regulations codified at 16 CFR 1500.18(a)(6) and 1500.86(a)(4). No comments were received in response to that notice. Therefore, by publication of this notice, the Commission announces that it has submitted to the Office of Management and Budget (OMB) a request for extension of approval of this collection of information, without change.

ADDRESSES: To ensure that comments on the information collection are received, the OMB recommends that written comments be faxed to the Office of Information and Regulatory Affairs, OMB, Attn: CPSC Desk Officer, Fax: 202-395-6974, or emailed to oira_submission@omb.eop.gov. All comments should be identified by Docket No. CPSC-2010-0038. In addition, written comments also should be submitted at http://www.regulations.gov, under Docket No. CPSC-2010-0038, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: Mary K. James, Office of Information Technology, U.S. Consumer Product Safety Commission, 4330 East West Highway, Bethesda, MD 20814; telephone 301-504-7213 or by email to mjames@cpsc.gov.

SUPPLEMENTARY INFORMATION:

A. Requirements for Baby-Bouncers and Walker-Jumpers

One CPSC regulation bans any product known as a baby-bouncer, walker-jumper, or similar article if it is designed in such a way that exposed parts present hazards of amputations, crushing, lacerations, fractures, hematomas, bruises or other injuries to children's fingers, toes, or other parts of the body. 16 CFR 1500.18(a)(6). A second CPSC regulation establishes criteria for exempting baby-bouncers and walker-jumpers from the banning rule under specified conditions. 16 CFR 1500.86(a)(4). The exemption regulation requires certain labeling on these products and their packaging to identify the name and address of the manufacturer or distributor and the model number of the product. Additionally, the exemption regulation requires that records must be established and maintained for three years relating to testing, inspection, sales, and distributions of these products. The regulation does not specify a particular form or format for the records. Manufacturers and importers may rely on records kept in the ordinary course of business to satisfy the recordkeeping requirements if those records contain the required information.

If a manufacturer or importer distributes products that violate the banning rule, the records required by section 1500.86(a)(4) can be used by the manufacturer or importer and the CPSC: (i) to identify specific models of products that fail to comply with applicable requirements; and (ii) to notify distributors and retailers if the products are subject to recall.

B. Estimated Burden

CPSC staff estimates that about 25 firms are subject to the testing and recordkeeping requirements of the regulations. Firms are expected to test on the average two new models per year per firm. CPSC staff estimates further that the burden imposed by the regulations on each of these firms is approximately 1 hour per year on the recordkeeping requirements and 30 minutes or less per model on the label requirements. Thus, the annual burden imposed by the regulations on all manufacturers and importers is approximately 50 hours on recordkeeping (25 firms × 2 hours) and 25 hours on labeling (25 firms × 1 hour) for a total annual burden of 75 hours per year.

CPSC staff estimates that the hourly wage for the time required to perform the required testing and recordkeeping is approximately $61.24 (Bureau of Labor Statistics: Total compensation rates for management, professional, and related occupations in private goods-producing industries, December, 2011) and that the hourly wage for the time required to maintain the required records is about $27.33 (Bureau of Labor Statistics: Total compensation rates for sales and office workers in private goods-producing industries, December 2011). The annualized total cost to the industry is estimated to be $3,745.

The Commission will expend approximately 2 days of professional staff time reviewing records required to be maintained by the regulations for baby-bouncers, and walker-jumpers. The annual cost to the federal government of the collection of information in these regulations is estimated to be about $165. This is based on an average hourly wage rate of $57.13 (the equivalent of a GS-14 Step 5 employee) with an additional 30.2 percent added for benefits (BLS, Percentage of total compensation comprised by benefits for all civilian management, professional, and related employees, December 2011), or $82.56 × 2 hours.

Dated: August 9, 2012.
Todd A. Stevenson,
Secretary, Consumer Product Safety Commission.

[FR Doc. 2012-21730 Filed 9-4-12; 8:45 am]

BILLING CODE 6355-01-P